ENVIRONMENTAL PROTECTION AGENCY

[ER-FRL-6613-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in Federal Register dated April 14, 2000 (65 FR 20157).

Draft EISs

ERP No. D-COE-C35014-NJ Rating EU2, Meadowlands Mills Project, Construction of a Mixed-Use Commercial Development, Permit Application Number 95-07-440-RS for Issuance of a USCOE Section 404 Permit, Boroughs of Carlstadt and Monnachie, Township of South Hackensack, Bergen County, NJ.

Summary: EPA raised significant objections to the applicant's preferred alternative and other alternatives due to adverse impacts to wetlands and availability of less damaging alternatives. EPA requested additional information regarding alternatives, air quality impacts and compensatory mitigation plans.

ERP No. DR-IBR-K39049-CA Rating EC2, Coachella Canal Lining Water Project, Revised and Updated Information, Approval of the Transfers and Exchanges of Conserved Coachella Canal Water, Construction, Operation and Funding, Riverside and Imperial Counties, CA.

Summary: EPA requested formal responses to comments sent on the original Draft EIS in 1994, and raised additional concerns involving monitoring of water quality, modeling of area-wide impacts, and consultation with tribal governments.

ERP No. DS-IBR-K28019-CA Rating EO2, East Bay Municipal Utility District Supplemental Water Supply Project and Water Service Contract Amendment, New and Additional Information on Alternatives, American River Division of the Central Valley Project (CVP), Sacramento County, CA.

Summary: EPA expressed objections regarding the level of detail and analysis of Alternatives 4 and 8, insufficient information on the impacts of wetlands, the potential growth inducing effects of the project, the absence of an analysis of how this project ties into the broader water allocation and ecosystem protection goals of CALFED and CVPIA, and how the water quality of the selected drinking water source will be protected. EPA requested that a greater level of detail and analysis be provided on these issues.

Final EISs

ERP No. F-COE-E30041-NC,Dare County Beaches (Bodie Island Portion) Hurricane Wave Protection and Beach Erosion Control, The towns of Nags Head, Kill Devil Hills, Kitty Hawk, Dare County, NC.

Summary: EPA continues to express concern regarding the adverse effect on the nearshore ecosystem caused by maintaining a given beach profile.

ERP No. F-COE-K36129-CA,Santa Ana River Mainstem Project Including Santiago Creek, Proposal to Complete Channel Improvements along San Timoteo Creek Reach 3B to provide Flood Protection, San Bernardino County, CA.

Summary: EPA expressed continuing concerns regarding analysis of an alternative that would have less adverse impacts to San Timoteo Creek, the full extent of cumulative impacts to San Timoteo Creek from Corps of Engineers' flood control projects, and mitigation to compensate for unavoidable losses to aquatic resources.

Dated: December 05, 2000.
Joseph C. Montgomery,
Director, NEPA Compliance Division, Office of Federal Activities.

[FR Doc. 00-31350 Filed 12-7-00; 8:45 am]

BILLING CODE 6560-50-P